DEPARTMENT OF AGRICULTURE

Food and Nutrition Service

Agency Information Collection Activities: Proposed Collection; Comment Request—Pilot-Testing of WIC Staffing Administrative Data Collection Process

AGENCY: Food and Nutrition Service, USDA.

ACTION: Notice.

SUMMARY: In accordance with the Paperwork Reduction Act of 1995, the Food and Nutrition Service (FNS) invites the general public and other interested parties to comment on a proposed pilot test of a potential new administrative data collection system for the Special Supplemental Nutrition Program for Women, Infants, and Children (WIC). The proposed pilot-testing described in this notice is part of FNS' larger effort to address the long term staffing challenges confronting the WIC Program's ability to provide quality nutrition services. This effort by FNS is in response to a General Accounting Office (GAO) recommendation that resulted in part from the concerns expressed by WIC state and local agencies and other program stakeholders that Nutrition Services and Administration (NSA) funding has not kept pace with the challenges and costs of program operations and administration.

DATES: To be assured of consideration, comments must be received on or before August 11, 2003.

ADDRESSES: Comments may be sent to Ed Herzog, Office of Analysis, Nutrition, and Evaluation, Food and Nutrition Service, U.S. Department of Agriculture, 3101 Park Center Drive, Alexandria, VA 22302. Comments may also be faxed to the attention of Mr. Herzog at 703-305-2576. The Internet address is: edward.herzog@fns.usda.gov.

We are soliciting comments on (a) whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

All written comments will be open for public inspection at the office of the Food and Nutrition Service during regular business hours (8:30 a.m. to 5 p.m., Monday through Friday) at 3101 Park Center Drive, Alexandria, Virginia 22302, Room 1006.

All responses to this notice will be summarized and included in the request for Office of Management and Budget (OMB) approval. All comments will be a matter of public record.

All submitted comments should refer to the title of this proposal.

FOR FURTHER INFORMATION CONTACT: Edward Herzog at 703-305-2137.

SUPPLEMENTARY INFORMATION: Title: Pilot-testing of WIC Staffing Administrative Data Collection Process.

OMB Number: Not yet assigned.

Expiration Date: N/A.

Type of Request: New collection of information.

Abstract: The William F. Goodling Child Nutrition Reauthorization Act of 1998 (Pub. L. 105-336) directed GAO to assess various aspects of NSA funding of the WIC program. The request was motivated by the concerns of WIC state and local agencies and other program stakeholders that the NSA funding had not kept pace with the challenges and costs of program operations and administration.

In December 2001, GAO released their fifth and final report on this subject, Food Assistance: WIC Faces Challenges in Providing Nutrition Services (GAO-02-142). One of the key challenges noted in the report concerned the recruitment and retention of skilled staff.

In the report, GAO confirmed a widely recognized concern in the WIC community that many local WIC agencies are reporting a shortfall in the number of professional staff available to the Program and difficulty acquiring professional staff members. For example, the 1998 WIC Participant and Program Characteristics report found that 30 percent of local WIC agencies serving over 40 percent of WIC participants reported having too few professional staff members. About half of the agencies reported having difficulty recruiting and hiring staff. GAO estimated that in Federal Fiscal Year 1998, between 5 to 15 percent of local WIC agencies did not have a nutritionist or dietitian on staff. The GAO report cites one WIC Director who suggested that the problem might worsen because WIC's workforce is aging and large numbers of WIC professionals are expected to retire in the next few years.

The WIC Program community, at the national and state level, and the professional nutrition community have also registered concern about the staffing issues currently facing the WIC program and interest in identifying staffing characteristics in greater detail. The National WIC Association (NWA) local agency section has also identified a need to better understand the issues affecting local agency staffing, and has identified a number of items of interest to the WIC community.

As noted by GAO and by FNS, a key obstacle in formulating strategies to address staffing needs in the WIC Program is the lack of data regarding issues such as staffing patterns, vacancies, turnover, and salaries at the local level. Without such data, identifying the exact nature of the staffing problems is difficult, and developing strategies to address these issues is an even greater challenge. Moreover, the lack of data can by itself be a contributing factor to the problems in recruiting and maintaining skilled staff. Until there is data documenting agencies' inability to meet demand, it is difficult to develop the infrastructure necessary to produce more professional staff and provide a greater level of support for them.

In order to address the lack of WIC staffing data, GAO recommended that FNS work with the Economic Research Service and the National Association of WIC Directors (now NWA) to conduct an assessment of the staffing needs of state and local agencies. FNS has determined that additional data collection is required to adequately respond to the GAO recommendation and to the staffing concerns currently facing the WIC program. FNS is interested in eventually developing a data collection system that all WIC local agencies would respond to on a periodic basis. Before proceeding with such a data collection system, however, FNS needs to better understand the burden associated with such a system. As a first step, FNS is planning to pilot-test a paper and an electronic version of the data collection system with volunteer local WIC agencies.

Methods: As a first step towards developing a draft data collection instrument, FNS, in consultation with the National WIC Association (NWA), established an eleven member advisory board consisting of local and state WIC agency representatives and a representative from the academic nutrition community. FNS thus assured that expert opinion and dialogue with the WIC stakeholder community was utilized in the process of developing the instrument. The diverse membership of the advisory board includes administrators and nutritionists from large and small geographic states and one Native American agency, representing all seven FNS regions.

FNS believes that the use of an electronic data collection instrument would help minimize the burden of the data collection process. However, according to NWA, only half of their member agencies currently have internet access. For this reason, FNS will pilot both an electronic and a paper version of the data collection instrument in order to test the effectiveness of both systems.

The draft data collection instrument was designed to collect information on the following areas:

1. Number and type of staff;

2. Functional responsibilities, by category of staff;

3. Salary and benefit levels by category of staff;

4. Factors affecting recruitment and retention of staff;

5. Changes in staffing levels over time;

6. Local agency characteristics.

FNS plans for pilot testing to be performed in selected local WIC agencies. The selected local WIC agencies are to be identified in consultation with the advisory board. Participation in the pilot-test will be voluntary; no local agency will be required to participate.

The pilot-test of the data collection system will serve three purposes. It will allow FNS to: (1) Make further refinements to the data collection instrument; (2) better understand the burden on local agencies to report staffing data; and (3) decide whether to go forward with a national periodic administrative data collection of staffing data from all local WIC agencies.

A copy of the proposed data collection instrument (paper version) can be obtained from the contact person identified at the beginning of this notice. The electronic version will not be available for review but will have the same questions, in the same order, as the paper version.

Estimate of Burden: The estimate of the reporting burden is based on the assumption that the information being requested should be available somewhere within each local agency; however, it may require some effort to collect and compile the information for the pilot-test. Furthermore, while there is a relatively fixed amount of time needed to fill out the pilot-test data collection instrument, agencies with more employees will likely need more time to collect and compile the requested information.

Respondents: Local WIC Agencies.

Estimated Number of Respondents: The pilot test will be conducted in one hundred local agencies, fifty of which will test the paper data collection instrument and fifty of which will test the electronic instrument. In addition, one day follow-up visits will be conducted at twelve of the original one hundred agencies for the purpose of verifying the accuracy of their responses and further understanding the process necessary to collect and compile the information.

Number of Responses per Respondent: Each local agency in the pilot test will complete the data collection instrument once. Each agency will also complete a second, shorter survey indicating how difficult the information was to collect, how much time it took to complete the data collection instrument, and which questions were particularly difficult to respond to. The twelve agencies selected for the follow-up will have one visit from a project team member.

Estimated Time per Response: The estimated time required for local agencies to compile and report the information will likely vary based on the size of the agency, as measured by the number of employees. Nationally, the size of local agencies ranges from one or two employees to the largest agency which employees approximately 350 staff. The agencies in the pilot will represent this diversity of size to the extent that appropriate volunteers can be identified. Estimates were developed for various ranges of agency size. These are:

(a) 1-20 employees: 30 minutes to read and understand the instructions, 120 minutes to collect the information, 40 minutes to complete the data collection instrument, and 30 minutes to complete the second survey for a total of 220 minutes.

(b) 21-100 employees: 30 minutes to read and understand the instructions, 240 minutes to collect the information, 40 minutes to complete the data collection instrument, and 30 minutes to complete the second survey for a total of 340 minutes.

(c) Over 100 employees: 30 minutes to read and understand the instructions, 360 minutes to collect the information, 40 minutes to complete the data collection instrument, and 30 minutes to complete the second survey for a total of 460 minutes.

All agencies, follow-up visits: Approximately six hours, regardless of agency size, for the follow-up visit and interviews.

There is no source of information regarding the number of employees in each of the local agencies across the country. However, from the oversite and monitoring of states and their local agencies over several years, FNS believes that the majority of local agencies probably fall within the middle size group. Accordingly, the pilot will include approximately twenty-five agencies from the first and third size groups and fifty agencies from the middle size groups for both versions of the pilot (paper and electronic). A slightly larger number of volunteer agencies will initially be identified to allow for a non-response rate and still have the desired number of responses.

Estimated Total Burden on Respondents in the Pilot: The total burden is calculated as follows:

25 local agencies × 220 minutes = 5,500 minutes or 91.7 hours.

50 local agencies × 340 minutes = 17,000 minutes or 283.3 hours.

25 local agencies × 460 minutes = 11,500 minutes or 191.7 hours.

12 local agencies × 6 hours = 72 hours.

Total respondent time: 638.7 hours.

Dated: June 2, 2003.
Roberto Salazar,
Administrator, Food and Nutrition Service.

[FR Doc. 03-14540 Filed 6-9-03; 8:45 am]

BILLING CODE 3410-30-P